NATIONAL AERONAUTICS AND SPACE ADMINISTRATION

[17-046]

NASA Advisory Council; Technology, Innovation and Engineering Committee; Meeting

AGENCY: National Aeronautics and Space Administration.

ACTION: Notice of meeting.

SUMMARY: In accordance with the Federal Advisory Committee Act, as amended, the National Aeronautics and Space Administration (NASA) announces a meeting of the Technology, Innovation and Engineering Committee of the NASA Advisory Council (NAC). This Committee reports to the NAC.

DATES: Tuesday, July 25, 2017, 8:00 a.m.-5:00 p.m., Local Time.

ADDRESSES: National Aerospace Institute, Room 101, 100 Exploration Way, Hampton, VA 23666.

FOR FURTHER INFORMATION CONTACT: Mr. Mike Green, Executive Secretary, NAC Technology, Innovation, and Engineering Committee, NASA Headquarters, Washington, DC 20546, (202) 358-4710, or g.m.green@nasa.gov.

SUPPLEMENTARY INFORMATION: The meeting will be open to the public up to the seating capacity of the room. This meeting is also available telephonically and by WebEx. You must use a touch-tone phone to participate in this meeting. Any interested person may dial the toll free access number 1-844-467-6272, and then the numeric participant passcode 102421 followed by the # sign. The WebEx link is https://nasa.webex.com/, the meeting number is 990 800 956, and the password is “TIE@NIA2017” (case sensitive).

Note: If dialing in, please “mute” your telephone.

The agenda for the meeting includes the following topics:

• Space Technology Mission Directorate (STMD) Update

• Habitation Capability Development—Human Exploration Operations Tech Development Efforts

• Centennial Challenges Program Findings and Response

• Office of the Chief Engineer Update

• Advanced Manufacturing and Structures Update

• Future Technology Demonstration Missions and In-Space Robotic Manufacturing and Assembly (IRMA) Update

• STMD Strategy Framework Discussion

Attendees will be requested to sign a register. It is imperative that the meeting be held on this date to accommodate the scheduling priorities of the key participants.

Carol J. Hamilton,
Acting Advisory Committee Management Officer, National Aeronautics and Space Administration.

[FR Doc. 2017-14116 Filed 7-5-17; 8:45 am]

BILLING CODE 7510-13-P